DEPARTMENT OF ENERGY

Federal Energy Regulatory Commission

Combined Notice of Filings #1

Take notice that the Commission received the following electric rate filings:

Docket Numbers: ER10-1801-009; ER10-1805-010; ER10-2370-008.

Applicants: NSTAR Electric Company, Public Service Company of New Hampshire, The Connecticut Light and Power Company.

Description: Triennial Market Power Analysis for Northeast Region of The Connecticut Light and Power Company, et al.

Filed Date: 12/30/25.

Accession Number: 20251230-5489.

Comment Date: 5 p.m. ET 3/2/26.

Docket Numbers: ER10-2124-028.

Applicants: Spring Canyon Energy LLC.

Description: Triennial Market Power Analysis for Northwest Region of Spring Canyon Energy LLC.

Filed Date: 12/31/25.

Accession Number: 20251231-5474.

Comment Date: 5 p.m. ET 3/2/26.

Docket Numbers: ER10-2125-029.

Applicants: Judith Gap Energy LLC.

Description: Triennial Market Power Analysis for Northwest Region of Judith Gap Energy LLC.

Filed Date: 12/31/25.

Accession Number: 20251231-5482.

Comment Date: 5 p.m. ET 3/2/26.

Docket Numbers: ER10-2129-018.

Applicants: Grays Harbor Energy LLC.

Description: Triennial Market Power Analysis for Northwest Region of Grays Harbor Energy LLC.

Filed Date: 12/31/25.

Accession Number: 20251231-5478.

Comment Date: 5 p.m. ET 3/2/26.

Docket Numbers: ER10-2132-028.

Applicants: Willow Creek Energy LLC.

Description: Triennial Market Power Analysis for Northwest Region of Willow Creek Energy LLC.

Filed Date: 12/31/25.

Accession Number: 20251231-5480.

Comment Date: 5 p.m. ET 3/2/26.

Docket Numbers: ER10-2135-018.

Applicants: Spindle Hill Energy LLC.

Description: Triennial Market Power Analysis for Northwest Region of Spindle Hill Energy LLC.

Filed Date: 12/31/25.

Accession Number: 20251231-5476.

Comment Date: 5 p.m. ET 3/2/26.

Docket Numbers: ER10-2607-008; ER10-2626-007.

Applicants: TEC Trading, Inc., Old Dominion Electric Cooperative.

Description: Triennial Market Power Analysis for Northeast Region of Old Dominion Electric Cooperative, et al.

Filed Date: 12/30/25.

Accession Number: 20251230-5492.

Comment Date: 5 p.m. ET 3/2/26.

Docket Numbers: ER10-2764-028.

Applicants: Vantage Wind Energy LLC.

Description: Triennial Market Power Analysis for Northwest Region of Vantage Wind Energy LLC.

Filed Date: 12/31/25.

Accession Number: 20251231-5466.

Comment Date: 5 p.m. ET 3/2/26.

Docket Numbers: ER11-2447-006.

Applicants: Pacific Northwest Generating Cooperative, Inc.

Description: Triennial Market Power Analysis for Northwest Region of Pacific Northwest Generating Cooperative, Inc.

Filed Date: 12/31/25.

Accession Number: 20251231-5468.

Comment Date: 5 p.m. ET 3/2/26.

Docket Numbers: ER16-1833-015.

Applicants: Sempra Gas & Power Marketing, LLC.

Description: Triennial Market Power Analysis for Northwest Region of Sempra Gas & Power Marketing, LLC.

Filed Date: 12/31/25.

Accession Number: 20251231-5486.

Comment Date: 5 p.m. ET 3/2/26.

Docket Numbers: ER16-2449-006; ER21-628-006.

Applicants: Harry Allen Solar Energy LLC, Boulder Solar II, LLC.

Description: Triennial Market Power Analysis for Northwest Region of Boulder Solar II, LLC, et al.

Filed Date: 12/31/25.

Accession Number: 20251231-5484.

Comment Date: 5 p.m. ET 3/2/26.

Docket Numbers: ER19-842-006; ER24-134-005.

Applicants: Three Rivers District Energy, LLC, Energy Center Paxton LLC.

Description: Triennial Market Power Analysis for Northeast Region of Energy Center Paxton LLC, et al.

Filed Date: 12/31/25.

Accession Number: 20251231-5470.

Comment Date: 5 p.m. ET 3/2/26.

Docket Numbers: ER19-1889-004; ER10-2806-017; ER10-2818-017; ER18-1984-010.

Applicants: Big Level Wind LLC, TransAlta Energy Marketing Corporation, TransAlta Energy Marketing (U.S.) Inc., Antrim Wind Energy LLC.

Description: Triennial Market Power Analysis for Northeast Region of Antrim Wind Energy LLC, et al.

Filed Date: 12/30/25.

Accession Number: 20251230-5490.

Comment Date: 5 p.m. ET 3/2/26.

Docket Numbers: ER19-2621-004; ER19-665-004; ER19-666-004; ER19-667-005; ER19-669-005.

Applicants: Northfield Mountain LLC, FirstLight MA Hydro LLC, FirstLight CT Hydro LLC, FirstLight CT Housatonic LLC, FirstLight Power Management LLC.

Description: Triennial Market Power Analysis for Northeast Region of FirstLight Power Management LLC, et al.

Filed Date: 12/30/25.

Accession Number: 20251230-5488.

Comment Date: 5 p.m. ET 3/2/26.

Docket Numbers: ER21-2289-004; ER15-2679-017; ER16-1609-011; ER16-2541-014; ER19-2395-004; ER20-902-013; ER20-1620-013; ER22-414-014; ER23-495-014.

Applicants: AES CE Solutions, LLC, AES Marketing and Trading, LLC, AES Solutions Management, LLC, sPower Energy Marketing, LLC, AES Integrated Energy, LLC, Pioneer Wind Park I, LLC, ID SOLAR 1, LLC, Latigo Wind Park, LLC, Clover Creek Solar, LLC.

Description: Triennial Market Power Analysis for Northwest Region of Clover Creek Solar, LLC, et al.

Filed Date: 12/30/25.

Accession Number: 20251230-5487.

Comment Date: 5 p.m. ET 3/2/26.

Docket Numbers: ER21-2712-005; ER10-2806-018; ER10-2818-018; ER10-2847-011; ER14-963-009.

Applicants: TransAlta Wyoming Wind LLC, TransAlta Centralia Generation LLC, TransAlta Energy Marketing Corporation, TransAlta Energy Marketing (U.S.) Inc., Heartland Generation Ltd.

Description: Triennial Market Power Analysis for Northwest Region of Heartland Generation Ltd., et al.

Filed Date: 12/30/25.

Accession Number: 20251230-5491.

Comment Date: 5 p.m. ET 3/2/26.

Docket Numbers: ER23-2842-003.

Applicants: Sunnyside Cogeneration Associates.

Description: Triennial Market Power Analysis for Northwest Region of Sunnyside Cogeneration Associates under ER23-2842.

Filed Date: 12/31/25.

Accession Number: 20251231-5473.

Comment Date: 5 p.m. ET 3/2/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 6, 2026.
Carlos D. Clay,
Deputy Secretary.

[FR Doc. 2026-00260 Filed 1-8-26; 8:45 am]

BILLING CODE 6717-01-P